COMMODITY FUTURES TRADING COMMISSION

Sunshine Act; Notice of Meeting

Time and Date: 11 a.m., Friday, August 14, 2009.

Place: 1155 21st St., NW., Washington, DC, 9th Floor Commission Conference Room.

Status: Closed.

Matters to be Considered: Surveillance Matters.

Contact Person for More Information: Sauntia S. Warfield, 202-418-5084.

Sauntia S. Warfield,
Assistant Secretary of the Commission.

[FR Doc. E9-18347 Filed 7-28-09; 4:15 pm]

BILLING CODE 6351-01-P